OFFICE OF PERSONNEL MANAGEMENT

Submission for Review: 3206-0208, Representative Payee Survey, RI 38-115

AGENCY: U.S. Office of Personnel Management.

ACTION: 60-Day notice and request for comments.

SUMMARY: Office of Personnel Management (OPM) offers the general public and other Federal agencies the opportunity to comment on the reinstatement of an expired information collection, Representative Payee Survey, RI 38-115.

DATES: Comments are encouraged and will be accepted until May 9, 2025.

ADDRESSES: You may submit comments, identified by docket number and/or OMB Control Number and title, by the following method:

—Federal Rulemaking Portal: http://www.regulations.gov. Follow the instructions for submitting comments.

All submissions received must include the agency name and docket number for this document. The general policy for comments and other submissions from members of the public is to make these submissions available for public viewing at http://www.regulations.gov as they are received without change, including any personal identifiers or contact information.

FOR FURTHER INFORMATION CONTACT: A copy of this information collection request with applicable supporting documentation may be obtained by contacting the Retirement Services Publications Team, Office of Personnel Management, 1900 E Street NW, Room 3316-L, Washington, DC 20415, Attention: Cyrus S. Benson, or via electronic mail to RSPublicationsTeam@opm.gov or fax at (202) 606-0910 or via telephone at (202) 936-0401.

SUPPLEMENTARY INFORMATION: As required by the Paperwork Reduction Act of 1995 (44 U.S.C. chapter 35), OPM is soliciting comments for this collection (OMB No. 3206-0208). This ICR has been revised to include a public burden statement. The Office of Personnel Management is particularly interested in comments that:

1. Evaluate whether the proposed collection of information is necessary for the proper performance of functions of OPM, including whether the information will have practical utility;

2. Evaluate the accuracy of OPM's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

RI 38-115, Representative Payee Survey, is used to collect information about how the benefits paid to a representative payee have been used or conserved for the benefit of the incompetent annuitant.

Analysis

Agency: Retirement Operations, Retirement Services, Office of Personnel Management.

Title: Representative Payee Survey.

OMB Number: 3206-0208.

Frequency: Annually.

Affected Public: Individuals or Households.

Number of Respondents: 11,000.

Estimated Time per Respondent: 20 minutes.

Total Burden Hours: 3,667.

U.S. Office of Personnel Management.
Stephen Hickman,
Federal Register Liaison.

[FR Doc. 2025-03772 Filed 3-7-25; 8:45 am]

BILLING CODE 6325-38-P